DEPARTMENT OF THE INTERIOR

Bureau of Land Management

[AZ-068-02-1610-DQ-241E]

Notice of Availability of Proposed Resource Management Plan/Final Environmental Impact Statement

AGENCY: Bureau of Land Management, Interior.

ACTION: Notice of Availability of Proposed Resource Management Plan/Final Environmental Impact Statement (RMP/FEIS) for the Las Cienegas National Conservation Area (NCA).

SUMMARY: Notice is hereby given that the Bureau of Land Management (BLM) has prepared a Proposed Resource Management Plan/Final Environmental Impact Statement (RMP/FEIS) for the Las Cienegas National Conservation Area (NCA) and Sonoita Valley Acquisition Planning District located in Pima and Santa Cruz Counties, Arizona.

The RMP/FEIS has been prepared pursuant to the National Environmental Policy Act (NEPA), the Federal Land Policy and Management Act (FLPMA), the act establishing the Las Cienegas National Conservation Area (H.R. 2941), and BLM management policies.

The RMP/FEIS was developed with broad public participation through a five-year collaborative planning process. Land use planning for the NCA and Acquisition Planning District are included in the document which addresses management on approximately 49,000 acres of public land.

DATES: The RMP/FEIS will be available for review and protest of the proposed land use plan decisions for 30 days from the date the Environmental Protection Agency (EPA) publishes its Notice of Availability (NOA) of this RMP/FEIS in the Federal Register. Protests must be filed in accordance with the instructions described in the Supplemental Information section of this notice.

ADDRESSES: Copies of the RMP/FEIS are available from the Field Manager, Tucson Field Office, Bureau of Land Management, 12661 E. Broadway Blvd., Tucson, AZ 85748.

FOR FURTHER INFORMATION CONTACT: Karen Simms, Ecosystem Planner, Tucson Field Office, Bureau of Land Management, 12661 E. Broadway Blvd., Tucson, AZ 85748, Telephone 520-258-7200.

SUPPLEMENTARY INFORMATION: In accordance with 43 CFR 1610.5-2, any person who participated in the planning process and believes they may be adversely affected by approval of the resource management plan may protest the proposed land use plan decisions of the RMP/FEIS document.

The protest may raise only those issues which were submitted for the record during the planning process. The protest must be in writing and within the date the EPA publishes it's NOA of this RMP/FEIS in the Federal Register. The protest must be complete and filed with the Director, Bureau of Land Management (WO-210, ms 1050LS), Attention: Brenda Hudgens-Williams, Protest Coordinator, 1849 C Street NW, Washington, DC 20240. If you wish to send your protest using an overnight express delivery service, the address is, Director, Bureau of Land Management (WO-210), Attention: Brenda Hudgens-Williams, Protest Coordinator, 1620 L Street NW, Suite 1075, Washington, DC, 20036. Also please send a copy of any protest along with all backup documentation to Karen Simms, Tucson Field Office, 12661 E. Broadway Blvd., Tucson, AZ 85748.

In order to be considered complete, your protest must contain, at a minimum, the following information:

1. The name, mailing address, telephone number, and interest of the person filing the protest.

2. A statement of the issue or issues being protested.

3. A statement of the part or parts of the proposed RMP being protested. To the extent possible, this should be done by reference to specific pages, paragraphs, sections, tables, maps, etc., included in the document.

4. A copy of all documents addressing the issue or issues that you submitted during the planning process or a reference to the date the issue or issues were discussed for the record.

5. A concise statement explaining why you believe the proposed plan is wrong. The explanation should include all relevant facts and reasons, and documentation rather than merely expressing disagreement with the proposed decision.

Single copies of the RMP/FEIS will be available at the start of the 30-day protest period at the BLM Tucson Field Office, 12661 E. Broadway, Tucson, Arizona 85748. The RMP/FEIS may be reviewed via the Internet at http://www.az.blm.gov. Interested persons not already on the mailing list may request a hard copy or a CDROM of the RMP/FEIS from the BLM Tucson Field Office.

Background

The RMP/EIS analyzed four alternatives to manage natural and cultural resources, visitor use and access, grazing, and maintenance of desired resource, economic and quality-of-life conditions. Alternative 1, the no action alternative, represents the continuation of existing management decisions within the National Conservation Area and Sonoita Valley Acquisition Planning District. Alternative 2, the proposed plan or BLM's preferred alternative, emphasizes ecosystem management and the use of partnerships and collaboration to achieve desired resource conditions. Alternative 3 proposes allowing the greatest mix of land uses with restrictions to protect sensitive areas and with fewer road closures and restrictions than the other alternatives. Alternative 4 emphasizes land use closures and restrictions and limits on development to achieve desired resource conditions making it the most restrictive of the alternatives.

The proposed plan (Alternative 2) is designed to achieve or maintain desired future conditions developed through the Sonoita Valley Planning Partnership process. Under the preferred alternative land use plan, the public lands are open to livestock grazing and dispersed recreation, both motorized and mechanized vehicles are limited to designated routes, and recreation is managed within three zones. Two utility corridors are established and the public lands are closed to mineral entry and location. The public lands in the planning area will be designated as an Area of Critical Environmental Concern (ACEC) upon approval of the RMP. The preferred alternative (Alternative 2) includes a series of management actions to meet the desired resource conditions for upland and riparian vegetation, wildlife habitats, and cultural and visual resources as well as livestock grazing and recreation management actions.

Dated: April 29, 2002.
Denise Meridith,
State Director.

[FR Doc. 02-15640 Filed 6-20-02; 8:45 am]

BILLING CODE 4310-32-P